DEPARTMENT OF DEFENSE

Department of the Army, Corps of Engineers

Notice of Intent To Prepare an Integrated Feasibility Report and Environmental Impact Statement for the San Francisco Waterfront Coastal Flood Study, San Francisco County, California

AGENCY: U.S. Army Corps of Engineers, Department of the Army, DoD.

ACTION: Notice of Intent to prepare a Draft Integrated Feasibility Report and Environmental Impact Statement for the San Francisco Waterfront Coastal Flood Study, San Francisco County, California.

SUMMARY: Pursuant to the requirements of the National Environmental Policy Act (NEPA) of 1969, as implemented by the Council on Environmental Quality regulations, the U.S. Army Corps of Engineers (USACE), Tulsa District, announces its intent to prepare a Draft Integrated Feasibility Report and Environmental Impact Statement (IFR-EIS) for the San Francisco Waterfront Coastal Flood Study. The study will investigate the feasibility of managing tidal and fluvial flooding and sea level rise along 7.5 miles of the San Francisco Waterfront, from Aquatic Park to Herons Head Park, in the City of San Francisco, San Francisco County, California. This notice announces USACE's intent to determine the scope of the issues to be addressed and identify the significant issues related to a proposed action.

DATES: Written comments should be submitted by August 28, 2023.

ADDRESSES: Written comments related to the development of the Draft IFR-EIS may be submitted by any of the following methods:

• Email: SFWFRS@usace.army.mil.

• Mail: U.S. Army Corps of Engineers, Tulsa District, ATTN: RPEC—SFWS, 2488 E 81st Street, Tulsa, OK 74137.

• For more information visit the project website at: https://sfport.com/wrp/usace.

FOR FURTHER INFORMATION CONTACT: Questions or comments regarding the proposed Draft IFR-EIS may be directed to Ms. Melinda Fisher at 918-669-7423 or by email at SFWFRS@usace.army.mil.

SUPPLEMENTARY INFORMATION:

1. Authority. The San Francisco Waterfront Coastal Flood Study (the Study) was originally authorized under section 110 of the Rivers and Harbors Act of 1950, Public Law (Pub. L.) 515, 64 stat. 163. The project was subsequently authorized under Section 142 of the Water Resources Development Act (WRDA) of 1976, Pub. L. 94-587, 90 stat. 2917, 2930, as amended by Section 705 of WRDA of 1986, Pub. L. 99-662, 100 stat. 4082, 4158 and section 203 of WRDA 2020.

2. Background. The USACE and the Port of San Francisco (Port) have partnered to study flood risk along 7.5 miles of San Francisco's bayside shoreline including areas between Aquatic Park and Heron's Head Park. The Study is one of several coordinated waterfront resiliency efforts being undertaken by the Port in partnership with other federal, state, and local agencies to plan and reduce the risk of anticipated seismic activity, flooding, coastal storm damages, and sea level rise along the waterfront.

The Study began in 2018 under the USACE San Francisco District, South Pacific Division and was transferred to the Tulsa District out of the Southwestern Division in 2021. The Study follows the USACE Specific, Measurable, Attainable, Risk Informed, and Timely (SMART) planning process which targets a feasibility study to be completed within three years, but due to several complexities, including consideration of seismic conditions and the diversity of the geographic regions and stakeholders, the Study has been approved to complete the process in seven years.

3. Purpose and Need. The purpose of the Study is to investigate the feasibility of managing tidal and fluvial flooding and sea level rise along 7.5 miles of the San Francisco Bay shoreline. The project area is at risk of flooding from bay water during coastal storms, extreme tides, and future sea level rise. Flooding along the waterfront could cause extensive damage to public infrastructure and private property, loss of life and deterioration of public health and safety, degradation of the natural environment, and adverse changes to the social and economic character of the waterfront community. The risk is expected to increase over time as sea levels rise in the bay.

4. Proposed Action and Alternatives Being Considered. Adapting the waterfront will require changes on a large scale that balance multiple factors and priorities. The Study Team has formulated an array of alternatives that would reduce the risk of flooding along the waterfront by considering the three USACE sea level rise curve scenarios (low, intermediate, and high), alignment of the line of defense relative to the existing shoreline, and adaptability of the design to address higher sea levels if certain thresholds are triggered after construction. A total of seven alternatives have been formulated for this study including:

• Alternative A—No Action: Takes no action to reduce flood risks through this project. This alternative serves as the baseline condition.

• Alternative B—Nonstructural: Proposes nonstructural measures such as relocation, raise in place, floodproofing, and zoning in areas identified with frequent flooding.

• Alternative C—Defend Low Rate of Rise: Uses a combination of structural (e.g., t-walls, sheet pile walls, berms, curb extensions), nonstructural (e.g., deployable flood barriers, floodproofing), and natural and nature-based features (NNBF) (e.g., ecological armoring) to address flooding in “low spots” along the shoreline. This alternative does not include any future year actions or adaptability once construction is complete.

• Alternative D—Hybrid, Lower Rate of Rise: Similar to Alternative C except measures are adaptable for future construction assuming the rate of rise accelerates to a higher rate of sea level change. Ecotone levees, ecological armoring, and wetland preservation and restoration are additional NNBF included in this design.

• Alternative E—Defend, Higher Rate of Rise: Uses a combination of structural (e.g., wharf raises and rehabilitation, seawalls, sheet pile walls, and berms), nonstructural (e.g., building and bridge raises, floodproofing) and NNBF (e.g., living seawalls/vertical shoreline, embankment shorelines, ecotone levees, and naturalized shorelines) to defend at the existing shoreline and prevent overtopping at the higher rate of sea level change with recommendations for adaptation in future years.

• Alternative F—Working with Water, Higher Rate of Rise: Similar to Alternative E, except there is managed retreat inland along the southern waterfront and tide gates at the mouths of Islais and Mission creeks. The NNBF include ecotone levees, ecological armoring, naturalized shorelines, coarse beaches, and wetland preservation and restoration. Additional retreat and adaptations are proposed as the rate of sea level rise increases. This alternative proposes the most bayward alignment.

• Alternative G—Living with Water, Higher Rate of Rise: Similar to Alternative F, except this alternative concedes the largest area for managed retreat and incorporates more nonstructural measures (e.g., relocation and zoning) and significantly more areas of wetland restoration. It does not include water control structures (i.e., tide gates). This alternative proposes the most inland alignment and does not require bay fill.

5. Brief Summary of Expected Impacts. Expected impacts include short- and long-term impacts to existing aquatic habitats, fish and wildlife including federally protected species and their habitat, water quality, air quality, aesthetic quality, noise, transportation corridors, recreation features, historic resources, and socioeconomic resources. Impacts anticipated to require compensatory mitigation include aquatic habitats, water quality, and air quality, while many of the impacts to other resources will be minimized or avoided through project design. Long-term benefits are anticipated to each of the socioeconomic resources such as life safety, critical infrastructure, utilities, historic resources, historically disadvantaged communities, recreation, and the local economy through the management of coastal flooding and sea level rise. Long-term increases in aquatic habitats may also be realized with implementation of the NNBF.

The USACE San Francisco District and Port issued a Notice of Early Scoping in the Federal Register August 20, 2020. At that time, it was unclear if significant effects would be realized and the need for an EIS was not formally announced. Since then, it was determined that significant resource impacts are anticipated and an EIS is warranted. During early scoping, several significant environmental and social issues were raised including but not limited to minimizing bay fill; effects of high rates of sea level rise on any alternative considered; disruptions to businesses, transportation corridors and walk paths; environmental justice impacts on historically disadvantaged communities; impacts to water quality, contaminated sites, historic resources; and the potential cost and time to implement any of the strategies. In general, there was wide support for use of nature-based measures in lieu of gray infrastructure, preserving and increasing public access to the waterfront, and incorporating adaptation components to address uncertainties in sea level rise.

6. Anticipated Permits, Consultations, or Coordination. The proposed action is being coordinated with federal, state, regional, and local agencies. In accordance with relevant environmental laws and regulations, the USACE will consult with the following agencies: US Fish and Wildlife Service and National Marine Fisheries Service under the Fish and Wildlife Coordination Act and Endangered Species Act; National Marine Fisheries Service under the Marine Mammal Protection Act and Magnuson-Stevens Fishery Conservation and Management Act; the San Francisco Bay Regional Water Quality Control Board under Section 401 of the Clean Water Act; the Bay Conservation and Development Commission under the Coastal Zone Management Act; the Bay Area Air Quality Management District under the Clean Air Act; the California State Historic Preservation Office and the Advisory Council on Historic Preservation under the National Historic and Preservation Act; and tribes under tribal coordination policies and executive orders. Other Federal and state agencies have been invited to participate throughout the study process as Coordinating or Participating Agencies.

For compliance with the National Environmental Policy Act (NEPA), the USACE will serve as the lead Federal agency in the preparation of the Draft IFR-EIS. For the California Environmental Quality Act (CEQA), the City of San Francisco Planning Department (Planning Department) is the lead agency for the Study. The Planning Department is conducting CEQA review under a separate process and will not be integrated with this NEPA effort.

7. Public Participation. USACE invites all affected federal, state, and local agencies, affected Native American Tribes, other interested parties, and the public to participate in the NEPA process during development of the Draft IFR-EIS.

Early scoping began in 2020, however due to the scale of anticipated effects, the USACE is inviting additional comments on the potential alternatives, issues of concern and any analyses relevant to the proposed action with this notice and formally announces the intent to prepare an EIS. For more information visit the project website at https://sfport.com/wrp/usace.

The scoping comment period begins with publication of this notice and ends on August 28, 2023. All comments received during early scoping and the scoping period are being used to identify significant resources and effects that should be considered in the preparation of the Draft IFR-EIS. Comments received after the comment period closes will be considered prior to the Draft IFR-EIS public review period, to the extent possible. For those that cannot be addressed prior to the public review period, the comments will be included within the public review period and addressed at that time.

While no public scoping meetings are scheduled during this scoping period, virtual public scoping meetings were held on September 16 and 17, 2020 coinciding with the Notice of Early Scoping issued in the Federal Register August 2020. The Port has also held numerous public engagement sessions including a robust outreach effort in the Fall of 2022 with a total of sixteen virtual and in-person public engagement events to further describe the purpose of the Study and strategies being considered, as well as to seek feedback on areas of concern and the plan formulation process.

8. Availability of Draft IFR-EIS. The USACE currently estimates that the Draft IFR-EIS will be available for public review and comment in the Fall of 2023. At that time, the USACE will provide a 60-day public review period for individuals and agencies to review and comment. The USACE will notify all interested agencies, organizations, and individuals of the availability of the draft document at that time. All interested parties are encouraged to respond to this notice and provide a current address if they wish to be notified of the Draft EIS circulation.

Wesley E. Coleman, Jr.
Programs Director, Southwestern Division.

[FR Doc. 2023-15898 Filed 7-26-23; 8:45 am]

BILLING CODE 3720-58-P